DEPARTMENT OF TRANSPORTATION

Coast Guard

33 CFR Part 117

[CGD01-00-209]

Drawbridge Operation Regulations: Hackensack River, NJ

AGENCY: Coast Guard, DOT.

ACTION: Notice of temporary deviation from regulations.

SUMMARY: The Commander, First Coast Guard District, has issued a temporary deviation from the drawbridge operation regulations for the NJTRO Lower Hack Bridge, at mile 3.4, across the Hackensack River in Jersey City, New Jersey. This deviation from the regulations allows the bridge owner to keep the bridge in the closed position from 10 p.m. Friday through 5 a.m. on Monday for four consecutive weeks. This action is necessary to facilitate mechanical repairs at the bridge.

DATES: This deviation is effective from September 8, 2000, through October 2, 2000.

FOR FURTHER INFORMATION CONTACT: Judy Yee, Project Officer, First Coast Guard District, at (212) 668-7165.

SUPPLEMENTARY INFORMATION: The NJTRO Lower Hack Bridge, at mile 3.4, across the Hackensack River in Jersey City, New Jersey, has a vertical clearance of 45 feet at mean high water, and 40 feet at mean low water in the closed position.

The existing operating regulations in 33 CFR 117.723(b) require the bridge to open on signal if at least one-hour advance notice is given to the drawtender at the Upper Hack Bridge, mile 6.9, at Secaucus, New Jersey. In the event the HX drawtender is at the Newark/Harrison (Morristown Line) Bridge, mile 5.8, on the Passaic River, up to an additional half hour delay is permitted.

The bridge owner, New Jersey Transit, requested a temporary deviation from the drawbridge operating regulations to facilitate mechanical repairs at the bridge.

This deviation to the operating regulations allows the owner of the NJTRO Lower Hack Bridge to keep the bridge in the closed position from 10 p.m. on Friday through 5 a.m. on Monday for four consecutive weeks as follows:

• Friday, September 8 through Monday, September 11, 2000.

• Friday, September 15 through Monday, September 18, 2000.

• Friday, September 22 through Monday, September 25, 2000.

• Friday, September 29 through Monday, October 2, 2000.

In accordance with 33 CFR 117.35(c), this work will be performed with all due speed in order to return the bridge to normal operation as soon as possible. This deviation from the operating regulations is authorized under 33 CFR 117.35.

Dated: August 29, 2000.
G.N. Naccara,
Rear Admiral, U.S. Coast Guard, Commander, First Coast Guard District.

[FR Doc. 00-23260 Filed 9-8-00; 8:45 am]

BILLING CODE 4910-15-U